DEPARTMENT OF HEALTH AND HUMAN SERVICES

Centers for Disease Control and Prevention

ICD-9-CM Coordination and Maintenance Committee Meeting

The National Center for Health Statistics (NCHS), Classifications and Public Health Data Standards Staff, announces the following meeting.

Name: ICD-9-CM Coordination and Maintenance Committee meeting.

Times and Dates: 9 a.m.-5 p.m., September 28-29, 2006.

Place: Centers for Medicare and Medicaid Services (CMS) Auditorium, 7500 Security Boulevard, Baltimore, Maryland.

Status: Open to the public.

Purpose: The ICD-9-CM Coordination and Maintenance (C&M) Committee will hold its final meeting of the 2006 calendar year cycle on Thursday and Friday, September 28-29, 2006. The C&M meeting is a public forum for the presentation of proposed modifications to the International Classification of Diseases, Ninth-Revision, Clinical Modification.

Matters To Be Discussed: Tentative agenda items include:

Abnormal cytology of vagina,

Acquired absence of cervix/uterus,

Acquired pure red cell aplasia,

Antenatal screening,

Avian (bird) flu,

Disorder/Disease of stomach index entries,

E code for Fosamax and similar compounds,

Fetal medicine,

Harmful algae bloom,

Hearing loss and speech language problems,

History of stroke without residual deficits/TIA,

Human Parvovirus,

In vitro treatment status,

Malignant ascites,

Myotonic disorders,

Osteonecrosis of jaw, drug induced,

Personal history of sudden cardiac arrest (cardiac arrhythmia),

Personal history of cervical dysplasia,

Screening for HPV,

Secondary Diabetes Mellitus (updated proposal),

Septic embolism,

TORCH infections,

Total occlusion of peripheral vessel,

Urinary risk factors,

VIN and VAIN (Continuation),

Addenda (diagnosis),

Blood Brain Barrier,

Coflex® interspinous stabilization device,

Intracranial Pressure (ICP) Monitoring and Oxygen Monitoring,

Motion Preserving Technologies,

NeuroThera ™: Non-invasive Ischemic Stroke Therapy,

Pelvic Prolapse Repair,

Rheos Baroreflex Activating System,

Spy intraoperative fluorescence vascular angiography,

Thoracoscopic procedures,

TOPS ™ Facet Replacement,

Addenda (procedures),

ICD-10-PCS.

Contact Person for Additional Information: Amy Blum, Medical Systems Specialist, Classifications and Public Health Data Standards Staff, NCHS, 3311 Toledo Road, Room 2402, Hyattsville, Maryland 20782, e-mail alb8@cdc.gov, telephone 301-458-4106 (diagnosis), Mady Hue, Health Insurance Specialist, Division of Acute Care, CMS, 7500 Security Blvd., Baltimore, Maryland 21244, e-mail Marilu.Hue@cms.hhs.gov, telephone 410-786-4510 (procedures).

Notice: Because of increased security requirements CMS has instituted stringent procedures for entrance into the building by non-government employees. Persons without a government I.D. will need to show an official form of picture I.D., (such as a drivers license), and sign-in at the security desk upon entering the building. Those who wish to attend a specific ICD-9-CM C&M meeting in the CMS auditorium must submit their name and organization for addition to the meeting visitor list. Those wishing to attend the September 28-29, 2006 meeting must submit their name and organization by September 25, 2006 for inclusion on the visitor list. This visitor list will be maintained at the front desk of the CMS building and used by the guards to admit visitors to the meeting. Those who attended previous ICD-9-CM C&M meetings will no longer be automatically added to the visitor list. You must request inclusion of your name prior to each meeting you attend. Register to attend the meeting on-line at: http://cms.hhs.gov/events.

Notice: This is a public meeting. However, because of fire code requirements, should the number of attendants meet the capacity of the room, the meeting will be closed.

The Director, Management Analysis and Services Office, has been delegated the authority to sign Federal Register notices pertaining to announcements of meetings and other committee management activities, for both CDC and the Agency for Toxic Substances and Disease Registry.

Dated: August 28, 2006.
Alvin Hall,
Director, Management Analysis and Services Office, Centers for Disease Control and Prevention.

[FR Doc. E6-14557 Filed 8-31-06; 8:45 am]

BILLING CODE 4163-18-P